FEDERAL COMMUNICATIONS COMMISSION

47 CFR Part 73

[DA 03-366; MB Docket No. 02-158, RM 10383; MB Docket No. 02-159, RM-10471; MB Docket No. 02-160, RM-10472; MB Docket No. 02-161, RM-10473; MB Docket No. 02-162, RM-10474; MB Docket No. 02-163, RM-10475; MB Docket No. 02-165, RM-10477]

Radio Broadcasting Services; Austin; NV; Baker, NV; Battle Mountain; NV; Elkhart, KS; Eureka, NV; Fallon, NV; Moah, UT

AGENCY: Federal Communications Commission.

ACTION: Proposed rule; dismissal.

SUMMARY: This document dismisses seven proposals. Sierra Grande Broadcasting filed petitions for rule making proposing the allotment of (1) Channel 263C1 at Elkhart, Kansas; (2) Channel 227C at Austin, Nevada; (3) Channel 296C at Baker, Nevada; (4) Channel 231C at Battle Mountain, Nevada; (5) Channel 300C at Eureka, Nevada; (6) Channel 297C at Fallon, Nevada; and (7) Channel 234C at Moab, Utah. See 67 FR 47502, July 19, 2002. Petitioner failed to file comments reaffirming its intention to apply for the specified channel, if allotted, or a motion was filed by petitioner withdrawing its proposal. A showing of continuing interest is required before a channel will be allotted. It is the Commission's policy to refrain from making an allotment to a community absent an expression of interest. Therefore, we dismiss the above-mentioned petitions.

FOR FURTHER INFORMATION CONTACT: Sharon P. McDonald, Media Bureau, (202) 418-2180.

SUPPLEMENTARY INFORMATION: This is a synopsis of the Commission's Report and Order, MB Docket No. 02-158; MB Docket No. 02-159; MB Docket No. 02-160; MB Docket No. 02-161; MB Docket No. 02-162; MB Docket No. 02-163; and MB Docket No. 02-165, adopted February 5, 2003, and released February 7, 2003. The full text of this Commission decision is available for inspection and copying during normal business hours in the FCC Reference Information Center (Room CY-A257), 445 12th Street, SW., Washington, DC. The complete text of this decision may also be purchased from the Commission's copy contractors, Qualex International, Portals II, 445 12th Street, SW., Room CY-B402, Washington, DC 20554.

Federal Communications Commission.
John A. Karousos,
Assistant Chief, Audio Division, Media Bureau.

[FR Doc. 03-4365 Filed 2-24-03; 8:45 am]

BILLING CODE 6712-01-P